DEPARTMENT OF THE TREASURY

Internal Revenue Service

26 CFR Part 1

[REG-144859-04]

RIN 1545-BD72

Section 1367 Regarding Open Account Debt; Correction

AGENCY: Internal Revenue Service (IRS), Treasury.

ACTION: Correction to notice of proposed rulemaking.

SUMMARY: This document contains corrections to a notice of proposed rulemaking (REG-144859-04) that was published in the Federal Register on Thursday, April 12, 2007 (72 FR 18417) relating to the treatment of open account debt between S corporations and their shareholders.

FOR FURTHER INFORMATION CONTACT: Stacy L. Short or Deanne M. Burke, (202) 622-3070 (not a toll-free number).

SUPPLEMENTARY INFORMATION:

Background

The correction notice that is the subject of this document is under section 1367 of the Internal Revenue Code.

Need for Correction

As published, the notice of proposed rulemaking (REG-144859-04) contains errors that may prove to be misleading and are in need of clarification.

Correction of Publication

Accordingly, the publication of proposed rulemaking (REG-144859-04), which was the subject of FR Doc. E7-6764, is corrected as follows:

1. On page 18417, column 3, in the preamble, under the caption DATES:, first sentence of the paragraph, the language “Written or electronic comments and requests for a public hearing must be received by July 11, 2007.” is corrected to read “Written or electronic comments must be received by July 10, 2007.”.

2. On page 18418, column 1, in the preamble, under the caption FOR FURTHER INFORMATION CONTACT:, lines six through eleven, the language “attend the hearing, Richard Hurst at (202) 622-2949 (TDD Telephone) (not toll free numbers) and his e-mail address is Richard.A.Hurst@irscounsel.treas.gov, (202) 622-7180 (not toll-free numbers).” is corrected to read “attend the hearing, Richard Hurst at Richard.A.Hurst@irscounsel.treas.gov, (202) 622-7180 (not toll-free numbers).

3. On page 18420, column 2, in the preamble, under the paragraph heading “Comments and Public Hearing”, the second paragraph of the column, first line, the language “The rules of 26 CFR 606.601(a)(3)” is corrected to read “The rules of 26 CFR 601.601(a)(3)”.

§ 1.1367-2 [Corrected]

4. On page 18422, column 1, § 1.1367-2, first paragraph of the column, third line of the paragraph, the language “1. The section heading is revised.” is corrected to read “1. The section heading and paragraph are revised.”.

5. On page 18422, column 1, § 1.1367-2, first paragraph of the column, lines four through seven are removed.

§ 1.1367-3 [Corrected]

6. On page 18422, column 1, § 1.1367-3, second paragraph of the column, the language of the paragraph heading “§ 1.1367-3 Effective dates and transitional rules.” is corrected to read “§ 1.1367-3 Effective date.”.

LaNita Van Dyke,
Chief, Publications and Regulations Branch, Legal Processing Division, Associate Chief Counsel (Procedure and Administration).

[FR Doc. E7-8705 Filed 5-7-07; 8:45 am]

BILLING CODE 4830-01-P